COMMITTEE FOR PURCHASE FROM PEOPLE WHO ARE BLIND OR SEVERELY DISABLED

Procurement List; Proposed Additions And Deletions

AGENCY: Committee for Purchase From People Who Are Blind or Severely Disabled.

ACTION: Proposed Additions to and Deletions From the Procurement List.

SUMMARY: The Committee is proposing to add products to the Procurement List that will be furnished by the nonprofit agency employing persons who are blind or have other severe disabilities, and delete products previously furnished by such agency.

Comments Must Be Received On Or Before: March 3, 2014.

ADDRESSES: Committee for Purchase From People Who Are Blind or Severely Disabled, 1401 S. Clark Street, Suite 10800, Arlington, Virginia, 22202-4149.

For Further Information or to Submit Comments Contact: Patricia Briscoe, Telephone: (703) 603-7740, Fax: (703) 603-0655, or email CMTEFedReg@AbilityOne.gov.

SUPPLEMENTARY INFORMATION:

This notice is published pursuant to 41 USC 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products:

Screwdriver

NSN: 5120-00-NIB-0072—3/16w Slotted Tip, Premium Grade, 3”

NSN: 5120-00-NIB-0073—1/4w Slotted Tip, Premium Grade, 4”

NSN: 5120-00-NIB-0074—5/16w Slotted Tip, Premium Grade, 6”

NSN: 5120-00-NIB-0075—3/8w Slotted Tip, Premium Grade, 8”

NSN: 5120-00-NIB-0076—7/16w Slotted Tip, Premium Grade, 10”

NSN: 5120-00-NIB-0077—1/4w Slotted Tip, Premium Grade, 1-7/8”

NSN: 5120-00-NIB-0078—#1 Phillips, Premium Grade, 3”

NSN: 5120-00-NIB-0079—#2 Phillips, Premium Grade, 4”

NSN: 5120-00-NIB-0080—#2 Phillips, Premium Grade, 8”

NSN: 5120-00-NIB-0081—#3 Phillips, Premium Grade, 6”

NSN: 5120-00-NIB-0082—#4 Phillips, Premium Grade, 6”

NSN: 5120-00-NIB-0083—#2 Phillips, Premium Grade, 1-1/2

NSN: 5120-00-NIB-0084—Set, 3/16—3/8w Slotted Tip, Premium Grade, 6PC

NSN: 5120-00-NIB-0085—Set, Phillips, Premium Grade, 6PC

NSN: 5120-00-NIB-0086—Set, Assorted, Premium Grade, 7PC

NPA: Industries for the Blind, Inc., West Allis, WI.

Contracting Activity: General Services Administration, Tools Acquisition Division I, Kansas City, MO.

Coverage: B-List for the Broad Government Requirement as aggregated by the General Services Administration.

Deletions

The following products are proposed for deletion from the Procurement List:

Products:

Kit, Pre-Inked Stamps

NSN: 7520-00-NIB-1090

NSN: 7520-00-NIB-1099

NSN: 7520-00-NIB-1105

NSN: 7520-00-NIB-1107

NPA: The Lighthouse for the Blind, Inc. (Seattle Lighthouse), Seattle, WA.

Contracting Activity: U.S. Postal Service, Washington, DC.

Patricia Briscoe,
Deputy Director, Business Operations, (Pricing and Information Management).

[FR Doc. 2014-02014 Filed 1-30-14; 8:45 am]

BILLING CODE 6353-01-P